DEPARTMENT OF LABOR

Bureau of Labor Statistics

Business Research Advisory Council; Notice of Meetings and Agenda

The regular Spring meetings of the Business Research Advisory Council and its committees will be held on April 19 and 20, 2006. All of the meetings will be held in the Conference Center of the Postal Square Building, 2 Massachusetts Avenue, NE., Washington, DC.

The Business Research Advisory Council and its committees advise the Bureau of Labor Statistics with respect to technical matters associated with the Bureau's programs. Membership consists of technical officials from American business and industry.

The schedule and agenda for the meetings are as follows:

Wednesday—April 19 (Conference Rooms 1 & 2)

10-11:30 a.m.—Committee on Productivity and Foreign Labor Statistics

1. The new NAICS-based major sector multifactor productivity measures.

2. Productivity and cost measures for two new service industries.

3. Chartbook of international labor comparisons.

4. Update on country expansion in compensation comparisons (China, India, and ILO collaboration).

5. Discussion of agenda items for the Fall 2006 meeting.

1-2:30 p.m.—Committee on Compensation and Working Conditions

1. Benefits outputs—a summary of recent research.

2. Change is coming to the ECI—a preview of the April Monthly Labor Review.

3. Defining wages—a comparison of BLS programs.

4. Program developments—short reports on recent and up-coming changes.

5. Discussion of agenda items for the Fall 2006 meeting.

3-4:30 p.m.—Committee on Prices Indexes

1. CPI: Medical Care and Prescription Drugs.

2. PPI: Classification of Firms as Manufacturing or Wholesale Trade.

3. Discussion of agenda items for the Fall 2006 meeting.

Thursday—April 20 (Conference Rooms 1 & 2)

8:30-10 a.m.—Committee on Employment and Unemployment Statistics

1. Report on the Federal Economic Statistics Advisory Committee (FESAC) recommendations on the CPS-CES discrepancy.

2. Discussion of planned changes to the Mass Layoff Statistics employer interview: (a) Revisions to the reasons for separations; and (b) addition of business functions of separated employees.

3. Review and discussion of preliminary plans for integrating Current Employment Statistics and Quarterly Census of Employment and Wages data.

4. Discussion of agenda items for the Fall 2006 meeting.

10:30 a.m.-12 p.m.—Council Meeting

1. Chairperson's opening remarks.

2. Commissioner's address and discussion.

1:30-3 p.m.—Committee on Occupational Safety and Health Statistics

1. Election of Vice-Chair for the Committee.

2. Brief Recap of Results from the 2004 Survey of Occupational Injuries and Illnesses—Summary and Case & Demographics.

3. Internet collection and Mail Tests.

4. Research Results to date—Injury, Illness, and Fatality Rates.

5. Potential Undercount.

6. Updates—Future plans; schedule of next news releases; budget status.

7. Discussion of agenda items for the Fall 2006 meeting.

The meetings are open to the public. Persons wishing to attend these meetings as observers should contact Tracy A. Jack, Liaison, Business Research Advisory Council, at 202-691-5869.

Signed at Washington, DC, the 22nd day of March, 2006.
Philip L. Rowes,
Acting Commissioner.

[FR Doc. E6-4536 Filed 3-28-06; 8:45 am]

BILLING CODE 4510-24-P